DEPARTMENT OF ENERGY

Federal Energy Regulatory Commission

Combined Notice of Filings #2

Take notice that the Commission received the following electric rate filings:

Docket Numbers: ER10-3285-001; ER10-3177-001; ER10-3181-001.

Applicants: UGI Development Company, UGI Energy Services, LLC, UGI Utilities, Inc.

Description: Updated Triennial Market Power Analysis for Northeast region of the UGI MBR Companies.

Filed Date: 12/19/16.

Accession Number: 20161219-5294.

Comments Due: 5 p.m. ET 2/17/17.

Docket Numbers: ER13-897-006.

Applicants: Louisville Gas and Electric Company.

Description: Compliance filing: Compliance Filing Attach K Correct eTariff Record Metadata to be effective 1/24/2015.

Filed Date: 12/19/16.

Accession Number: 20161219-5214.

Comments Due: 5 p.m. ET 1/9/17.

Docket Numbers: ER13-1928-010.

Applicants: Duke Energy Progress, LLC, Duke Energy Carolinas, LLC.

Description: Compliance filing: Correct Order No. 1000 Dates to be effective 1/1/2016.

Filed Date: 12/19/16.

Accession Number: 20161219-5123.

Comments Due: 5 p.m. ET 1/9/17.

Docket Numbers: ER13-1930-009.

Applicants: Louisville Gas and Electric Company.

Description: Compliance filing: Att. K Appendices Compliance Filing to Correct eTariff Record Metadata to be effective 1/24/2015.

Filed Date: 12/19/16.

Accession Number: 20161219-5186.

Comments Due: 5 p.m. ET 1/9/17.

Docket Numbers: ER13-1940-011.

Applicants: Ohio Valley Electric Corporation.

Description: Compliance filing: Compliance filing to correct effective date to be effective 1/1/2016.

Filed Date: 12/19/16.

Accession Number: 20161219-5184.

Comments Due: 5 p.m. ET 1/9/17.

Docket Numbers: ER13-1941-009.

Applicants: Alabama Power Company.

Description: Compliance filing: Compliance Filing to Correct Certain eTariff Recod Metadata to be effective 1/1/2016.

Filed Date: 12/19/16.

Accession Number: 20161219-5133.

Comments Due: 5 p.m. ET 1/9/17.

Docket Numbers: ER15-2239-006.

Applicants: NextEra Energy Transmission West, LLC.

Description: Compliance filing: NextEra Energy Transmission West, LLC Compliance Filing to be effective 10/20/2015.

Filed Date: 12/19/16.

Accession Number: 20161219-5263.

Comments Due: 5 p.m. ET 1/9/17.

Docket Numbers: ER16-2541-001.

Applicants: Pioneer Wind Park I, LLC.

Description: Compliance filing: Pioneer Wind Park I, LLC MBR Tariff to be effective 9/3/2016.

Filed Date: 12/19/16.

Accession Number: 20161219-5228.

Comments Due: 5 p.m. ET 1/9/17.

Docket Numbers: ER17-201-000.

Applicants: Shell Energy North America (US), L.P.

Description: Supplement to October 27, 2016 Shell Energy North America (US), L.P. tariff filing (Category 1 Seller Notice).

Filed Date: 12/12/16.

Accession Number: 20161212-5281.

Comments Due: 5 p.m. ET 1/3/17.

Docket Numbers: ER17-576-000.

Applicants: ISO New England Inc.

Description: § 205(d) Rate Filing: Part 1 of Two-Part Filing to Update Effective Date to be effective 3/1/2017.

Filed Date: 12/19/16.

Accession Number: 20161219-5169.

Comments Due: 5 p.m. ET 1/9/17.

Docket Numbers: ER17-576-001.

Applicants: ISO New England Inc.

Description: Tariff Amendment: Part 2 of Two-Part Filing to Update Effective Date to be effective 3/31/2017.

Filed Date: 12/19/16.

Accession Number: 20161219-5232.

Comments Due: 5 p.m. ET 1/9/17.

Docket Numbers: ER17-577-000.

Applicants: Rock River I, LLC.

Description: § 205(d) Rate Filing: Category 1 Seller Notice re Northwest to be effective 12/20/2016.

Filed Date: 12/19/16.

Accession Number: 20161219-5270.

Comments Due: 5 p.m. ET 1/9/17.

Docket Numbers: ER17-578-000.

Applicants: Direct Energy Small Business, LLC.

Description: Tariff Cancellation: Cancellation filing to be effective 2/17/2017.

Filed Date: 12/19/16.

Accession Number: 20161219-5313.

Comments Due: 5 p.m. ET 1/9/17.

Docket Numbers: ER17-579-000.

Applicants: Bounce Energy PA, LLC.

Description: Tariff Cancellation: Cancellation filing to be effective 2/17/2017.

Filed Date: 12/19/16.

Accession Number: 20161219-5323.

Comments Due: 5 p.m. ET 1/9/17.

Docket Numbers: ER17-580-000.

Applicants: RET Modesto Solar LLC.

Description: Compliance filing: Market-Based Rate Notice of Change in Status to be effective 12/20/2016.

Filed Date: 12/19/16.

Accession Number: 20161219-5332.

Comments Due: 5 p.m. ET 1/9/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2016.
Nathaniel J. Davis, Sr.,
Deputy Secretary.

[FR Doc. 2016-30975 Filed 12-22-16; 8:45 am]

BILLING CODE 6717-01-P